DEPARTMENT OF AGRICULTURE

Rural Utilities Service

South Mississippi Electric Power Association; Notice of Finding of No Significant Impact

AGENCY: Rural Utilities Service, USDA.

ACTION: Notice of finding of no significant impact.

SUMMARY: Notice is hereby given that the Rural Utilities Service (RUS) has made a finding of no significant impact with respect to the construction and operation of an 85-megawatt electric generation unit in Jones County, Mississippi. South Mississippi Electric Power Association proposes to construct and operate the unit. RUS may provide financing for the project.

FOR FURTHER INFORMATION CONTACT: Bob Quigel, Engineering and Environmental Staff, RUS, Stop 1571, 1400 Independence Avenue, SW., Washington, DC 20250-1571, telephone (202) 720-0468, e-mail at: bquigel@rus.usda.gov.

SUPPLEMENTARY INFORMATION: South Mississippi Electric Power Association proposes to construct an additional single, 85-megawatt, simple-cycle, gas-fired electric generation unit at South Mississippi Electric Power Association's Moselle Generating Station. The Moselle Generation Station is located approximately 1 mile north of Moselle in Jones County, Mississippi. No additional electric transmission lines or natural gas pipelines will need to be constructed for this project.

Copies of the Finding of No Significant Impact are available from RUS at the address provided herein or from Mr. Joey Ward, South Mississippi Electric Power Association, 7037 U.S. Highway 49, North, Hattiesburg, Mississippi 39404-5849, telephone (601) 268-2083. Mr. Ward's e-mail address is jward@smepa.com.

Dated: May 14, 2002.
Blaine D. Stockton,
Assistant Administrator, Electric Program, Rural Utilities Service.

[FR Doc. 02-12578 Filed 5-17-02; 8:45 am]

BILLING CODE 3410-15-P